DEPARTMENT OF ENERGY

Federal Energy Regulatory Commission

[Project No. 485-065]

Georgia Power Company; Notice of Availability of Environmental Assessment

In accordance with the National Environmental Policy Act of 1969 (NEPA) and the Federal Energy Regulatory Commission's (Commission or FERC) regulations, 18 CFR part 380, the Office of Energy Projects has review Georgia Power Company's application for license for the Bartletts Ferry Hydroelectric Project (FERC Project No. 485-065), located on the Chattahoochee River, along the Georgia-Alabama border, in Harris County Georgia, and Lee and Chambers counties, Alabama. The Project does not occupy federal lands.

Staff prepared an environmental assessment (EA), which analyzes the potential environmental effects of relicensing the Project, and concludes that relicensing the Project, with appropriate environmental protective measures, would not constitute a major federal action that would significantly affect the quality of the human environment.

A copy of the EA is available for review at the Commission in the Public Reference Room or may be viewed on the Commission's Web site at http://www.ferc.gov, using the “eLibrary” link. Enter the docket number, excluding the last three digits in the docket number field to access the document. For assistance, contact FERC Online Support at FERCOnlineSupport@ferc.gov, at (866) 208-3676 (toll free), or 202-502-8659 (TTY).

You may also register online at http://ferc.gov/docs-filing/esubscription.asp to be notified via email of new filings and issuances related to this or other pending projects. For assistance, contact FERC Online Support.

Any comments should be filed within 30 days from the date of this notice.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support.

In lieu of electronic filing, please send a paper copy to: Secretary, Federal Energy Regulatory Commission, 888 First Street NE., Washington, DC 20426. The first page of any filing should include docket number P-485-065.

For further information, contact Allan Creamer by phone at 202-502-8365, or by email at allan.creamer@ferc.gov.

Dated: April 22, 2014.
Kimberly D. Bose,
Secretary.

[FR Doc. 2014-09662 Filed 4-28-14; 8:45 am]

BILLING CODE 6717-01-P